DEPARTMENT OF ENERGY

Federal Energy Regulatory Commission

Notice of Effectiveness of Exempt Wholesale Generator Status

| Docket Nos.
Birdsboro Power LLC | EG18-124-000
MC Project Company LLC | EG18-125-000
LMBE Project Company LLC | EG18-126-000
Latitude Solar Center, LLC | EG18-127-000
Cricket Valley Energy Center, LLC | EG18-128-000
Blue Summit II Wind, LLC | EG18-129-000
Mankato Energy Center II, LLC | EG18-130-000
Willow Springs Solar, LLC | EG18-131-000
Cypress Creek Fund 12 Tenant, LLC | EG18-132-000
Fox Creek Farm Solar, LLC | EG18-133-000

Take notice that during the month of November 2018, the status of the above-captioned entities as Exempt Wholesale Generators became effective by operation of the Commission's regulations. 18 CFR 366.7(a) (2018).

Dated: December 14, 2018.
Nathaniel J. Davis, Sr.,
Deputy Secretary

[FR Doc. 2018-27728 Filed 12-20-18; 8:45 am]

BILLING CODE 6717-01-P